DEPARTMENT OF HOMELAND SECURITY

Coast Guard

33 CFR Part 117

[CGD07-03-172]

Drawbridge Operation Regulations; Loxahatchee River, Palm Beach County, FL

AGENCY: U.S. Coast Guard, DHS.

ACTION: Notice of temporary deviation from regulations.

SUMMARY: The Commander, Seventh Coast Guard District, has approved a temporary deviation from the regulations governing the operation of the Florida East Coast Railway bridge across the Loxahatchee River, mile 1.2, Jupiter, Florida. This deviation allows the bridge to remain in the closed position from 7 p.m. to 7 a.m. each day from December 10, 2003 until December 19, 2003 for repairs.

DATES: This deviation is effective from 7 p.m. on December 10 until 7 a.m. on December 19, 2003.

ADDRESSES: Material received from the public, as well as documents indicated in this preamble as being available in the docket [CGD07-03-172] will become part of this docket and will be available for inspection or copying at Commander (obr), Seventh Coast Guard District, 909 S.E. 1st Avenue, Miami, Florida 33131-3050 between 7:30 a.m. and 4 p.m., Monday through Friday, except Federal Holidays.

FOR FURTHER INFORMATION CONTACT: Mr. Michael Lieberum, Project Officer, Seventh Coast Guard District, Bridge Branch at (305) 415-6744.

SUPPLEMENTARY INFORMATION: The Florida East Coast Railway bridge across the Loxahatchee River, Jupiter, Florida, is a single leaf bascule bridge with a vertical clearance of 4 feet above mean high water (MHW) measured at the fenders in the closed position with a horizontal clearance of 40 feet. The current operating regulation in 33 CFR 117.300 requires that the bridge is not constantly tended. The draw is normally in the fully open position, displaying flashing green lights to indicate that vessels may pass. When a train approaches, the lights go to flashing red and a horn starts four blasts, pauses, and then continues four blasts. After an eight minute delay, the draw lowers and locks, providing the scanning equipment reveals nothing under the draw. The draw remains down for a period of eight minutes or while the approach track circuit is occupied. After the train has cleared, the draw opens and the lights return to flashing green.

On October 30, 2003, the bridge owner, Florida East Coast Railroad, requested a deviation from the current operating regulations to allow the owner and operator to keep this bridge in the closed position during certain times each day to facilitate repairs. The Commander, Seventh Coast Guard District has granted a temporary deviation from the operating requirements listed in 33 CFR 117.300 to complete repairs to the bridge. Under this deviation the Florida East Coast Railway bridge, across the Loxahatchee River, mile 1.2, Jupiter, Florida, need not open from 7 p.m. to 7 a.m., each day, from December 10, 2003 until December 19, 2003.

Dated: December 10, 2003.
Greg Shapley,
Chief, Bridge Branch, Seventh Coast Guard District.

[FR Doc. 03-31243 Filed 12-18-03; 8:45 am]

BILLING CODE 4910-15-U